DEPARTMENT OF TRANSPORTATION

Federal Aviation Administration

Electronic Flight Bag (EFB) Advisory Circular 120-76; Public Meeting

AGENCY: Federal Aviation Administration (FAA), DOT.

ACTION: Notice of meeting.

SUMMARY: On July 9, 2002, the Federal Aviation Administration (FAA) issued FAA Advisory Circular 120-76, “Guidelines for the Certification, Airworthiness, and Operational Approval of Electronic Flight Bag Computing Devices.” In writing the original version of this AC, the Agency recognized an urgent need to provide the aviation community with timely EFB guidance, but also recognized that future revisions of this AC might be needed. To facilitate this, the FAA is planning to hold a meeting to identify issues with the AC and to establish and identify priorities and processes to achieve early operational use of additional EFB applications and/or design features. The purpose of this Public Meeting is to solicit input from the user-community and to achieve a better understanding, cooperation, and consensus on EFB concepts, to identify proper forums for technical standards guidance development, and to propose specific implementation approaches and schedules to resolve outstanding technical issues.

DATES: The meeting will be held Thursday, October 10, 2002. The meeting will convene at 9 a.m. and will conclude at 5 p.m.

ADDRESSES: The meeting will be held at the offices of Advanced Management Technology, Incorporated (AMTI), 1515 Wilson Blvd., Suite 1100, Arlington, VA, 22209.

FOR FURTHER INFORMATION CONTACT: Mr. Gary Livack, Federal Aviation Administration, AFS-400, 800 Independence Avenue, NW., Washington, DC 20591. Telephone: (202) 385-4619. E-mail: garret.livack@faa.gov.

SUPPLEMENTARY INFORMATION: Pursuant to section 10(a)(2) of the Federal Advisory Committee Act (Pub. L. 92-463; 5 U.S.C. app. II), notice is hereby given of a meeting to identify EFB issues that would help in future development of EFB guidance. The scope of this meeting is to identify technical and content-oriented issues, then establish and identify resolution paths, priorities, and processes to achieve early operational approval of additional EFB applications and/or design features. Attendance is open to the interested public, but may be limited to the space available. Submission or written comments and presentations are required so that issues are documented properly for the record. The public may submit written comments in lieu of attendance. Comments should be forwarded to the individual listed in FOR FURTHER INFORMATION CONTACT section.

Issued in Washington, DC, September 18, 2002.
Louis C. Cusimano,
Deputy Director, Flight Standards Service.

[FR Doc. 02-24454 Filed 9-25-02; 8:45 am]

BILLING CODE 4910-13-M